DEPARTMENT OF THE INTERIOR

Bureau of Indian Affairs.

25 CFR Part 151

Acquisition of Title to Land in Trust; Delay of Effective Date

AGENCY: Bureau of Indian Affairs.

ACTION: Delay of effective date of final rule.

SUMMARY: This action temporarily delays for 90 days the effective date of the rule titled “Acquisition of Title to Land in Trust,” that we published in the Federal Register on January 16, 2001. We have extended the effective date of this rule by similar action on April 16, 2001.

DATES: The effective date of the Acquisition to Title to Land in Trust rule, amending 25 CFR Part 151, published in the Federal Register on January 16, 2001 (66 FR 3452), delayed by a rule published February 5, 2001 (66 FR 8899), corrected by rules published February 20, 2001 (66 FR 10815) and June 13, 2001 (66 FR 31976), delayed by a rule published April 16, 2001 (66 FR 19403), is further delayed from August 13, 2001, to November 10, 2001.

ADDRESSES: Submit any correspondence of concern or clarification regarding the delay of the effective date of this rule to: Terry Virden, Director, Office of Trust Responsibilities, MS 4513 MIB, 1849 C Street, NW, Washington, DC 20240.

FOR FURTHER INFORMATION CONTACT: Terry Virden, Director, Office of Trust Responsibilities, MS 4513 MIB, 1849 C Street, NW, Washington, DC 20240; telephone 202/208-5831.

SUPPLEMENTARY INFORMATION: This action temporarily delays for 90 days the effective date of the rule entitled “Acquisition of Title to Land in Trust,” published in the Federal Register on January 16, 2001, at 66 FR 3452, and which has had a prior extension of effective date published in the Federal Register on April 16, 2001. This document now extends the effective date of the final rule from August 13, 2001, to November 10, 2001, in order to continue to review comments that were received from the prior extension. The rule and received comments are being evaluated at this time to determine whether to amend the final rule in whole or in part. Given the imminence of the effective date of the final rule, seeking prior public comment on this temporary delay would have been impractical, as well as contrary to the public interest in the orderly promulgation and implementation of regulations.

The Department is publishing a Notice of Proposed Withdrawal in this issue of the Federal Register that will seek comments on whether this rule should be withdrawn and a new proposed rule promulgated which better addresses the public's continued concern with the procedures set out in 25 CFR Part 151.

Dated: August 8, 2001.
Neal A. McCaleb,
Assistant Secretary—Indian Affairs.

[FR Doc. 01-20253 Filed 8-10-01; 8:45 am]

BILLING CODE 4310-02-P